DEPARTMENT OF TRANSPORTATION

Federal Highway Administration

Rescission of Notice of Intent (NOI) To Prepare an Environmental Impact Statement (EIS)

AGENCY: Federal Highway Administration (FHWA), Department of Transportation (DOT).

ACTION: Notice.

SUMMARY: The FHWA is issuing this notice to advise the public that we are rescinding the September 26, 2013, NOI to prepare an EIS for a proposed project, the I-90 Tolling Project, to manage congestion and traffic flow on I-90 between I-5 and I-405, and contribute revenue to the sustainable, long-term funding for timely completion of the SR 520 Bridge Replacement and HOV Program and maintenance and future transportation improvements on I-90.

FOR FURTHER INFORMATION CONTACT: Lindsey Handel, Urban Transportation Engineer, Federal Highway Administration, Washington Division, 711 S. Capitol Way, Suite 501, Olympia, WA 98501; telephone: 360-753-9550; and email: lindsey.handel@dot.gov.

SUPPLEMENTARY INFORMATION: On September 26, 2013, FHWA published a Notice of Intent to prepare an EIS for the I-90 Tolling Project to manage congestion and traffic flow on I-90 between I-5 and I-405, and contribute revenue to the sustainable, long-term funding for timely completion of the SR 520 Bridge Replacement and HOV Program and maintenance and future transportation improvements on I-90. The passage of the Connecting Washington state funding package in 2015 provided sufficient funding to complete the SR 520 Bridge Replacement, eliminating part of the purpose for this project. Any futureI-90 tolling projects will progress under a separate environmental review process in accordance with all applicable laws and regulations.

Issued on: August 13, 2018.
Daniel M. Mathis,
FHWA Division Administrator, Olympia, WA.

[FR Doc. 2018-17757 Filed 8-16-18; 8:45 am]

BILLING CODE 4910-RY-P